DEPARTMENT OF ENERGY

Federal Energy Regulatory Commission

[Docket No. AD21-12-000]

Electrification and the Grid of the Future; Notice Inviting Post-Technical Conference Comments

On April 29, 2021, the Federal Energy Regulatory Commission (Commission) convened a technical conference to discuss electrification and the grid of the future.

All interested persons are invited to file post-technical conference comments to address issues raised during the technical conference and identified in the Supplemental Notice of Technical Conference issued April 14, 2021. For reference, the questions included in the Supplemental Notice are included below. Commenters need not answer all of the questions, but commenters are encouraged to organize responses using the numbering and order in the below questions. Commenters are also invited to reference material previously filed in this docket but are encouraged to avoid repetition or replication of previous material. Comments must be submitted on or before 45 days from the date of this Notice.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2020).

For more information about this Notice, please contact:

Michael Hill (Technical Information), Office of Energy Policy and Innovation, (202) 502-8703, Michael.Hill@ferc.gov

Sarah Greenberg (Legal Information), Office of the General Counsel, (202) 502-6230, Sarah.Greenberg@ferc.gov

Dated: May 17, 2021.
Kimberly D. Bose,
Secretary.

[FR Doc. 2021-10836 Filed 5-21-21; 8:45 am]

BILLING CODE 6717-01-P